DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more persons currently included in OFAC's Specially Designated Nationals and Blocked Persons List (SDN List). OFAC is also publishing the names of one or more persons whose property and interests in property have been unblocked and who have been removed from the SDN List.

DATES: See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On July 1, 2025, OFAC updated the SDN List entry for the following person, whose property and interests in property subject to U.S. jurisdiction continue to be blocked.

1. SHANGHAI WINSUN IMP AND EXP CO LTD, Room A, 22nd Floor, No. 2000 Pudong Avenue, Pilot Free Trade Zone, Pudong New Area, Shanghai 200135, China; Secondary sanctions risk: See Section 11 of Executive Order 14024.; Organization Established Date 15 Mar 2002; Registration Number 310115000664487 (China); Unified Social Credit Code (USCC) 91310000736692003K (China) [RUSSIA-EO14024] — TO — SHANGHAI WINSON IMP AND EXP CO LTD (a.k.a. SHANGHAI YUNCHEN IMPORT AND EXPORT CO LTD), Room 1907, Junfeng International Fortune Plaza, No. 1619 Dalian Road, Hongkou District, Shanghai, China; Room 605, Building 3, No. 188, Aona Road, China (Shanghai) Pilot Free Trade Zone, Shanghai, China; Secondary sanctions risk: See Section 11 of Executive Order 14024.; Organization Established Date 31 Jan 2018; Unified Social Credit Code (USCC) 91310115MA1K40X926 (China) [RUSSIA-EO14024].

On July 1, 2025, OFAC determined that the property and interests in property subject to U.S. jurisdiction of the following person are unblocked and they have been removed from the SDN List.

1. GOLD MILES LIMITED, 9B Shun Pont Commercial Building, 5 Thomson Road, Wanchai, Hong Kong, China; Suite 1601 Lake Central Tower, Marasi Drive, Business Bay, PO Box 417761, Dubai, United Arab Emirates; Secondary sanctions risk: See Section 11 of Executive Order 14024.; Organization Established Date 05 May 2011; Target Type Private Company; Registration Number 1596444 (Hong Kong) [RUSSIA-EO14024] (Linked To: HANAFIN, John Desmond).

On July 3, 2025, OFAC determined that the property and interests in property subject to U.S. jurisdiction of the following persons are unblocked and they have been removed from the SDN List.

1. PUERTA PARRA, Gabriel (a.k.a. “DOCTOR PUERTA”), Carrera 30 No. 90-82, Bogota, Colombia; c/o INTERCONTINENTAL DE AVIACION, S.A.; c/o COMERCIALIZADORA ANDINA BRASILERA S.A., Bogota, Colombia; c/o INDUSTRIAL MINERA Y PECUARIA S.A., Bogota, Colombia; c/o LA FRONTERA UNION GALVEZ Y CIA S EN C, Bogota, Colombia; DOB 01 Oct 1942; POB San Carlos, Antioquia, Colombia; Cedula No. 8238830 (Colombia); Passport P020046 (Colombia) (individual) [SDNT].

2. INDUSTRIAL MINERA Y PECUARIA S.A. (a.k.a. IMPECUA S.A.), Carrera 30 No. 90-82B La Castellana, Bogota, Colombia; NIT # 830000855-1 (Colombia) [SDNT].

3. COMERCIALIZADORA ANDINA BRASILERA S.A. (a.k.a. CABRASA), Carrera 30 No. 90-82, Bogota, Colombia; NIT # 830003298-2 (Colombia) [SDNT].

4. LA FRONTERA UNION GALVEZ Y CIA S EN C (f.k.a. LA FRONTERA PUERTA GALVEZ LTDA.), Carrera 30 No. 90-82, Bogota, Colombia; NIT # 800050795-2 (Colombia) [SDNT].

On August 18, 2025, OFAC updated the SDN List entry for the following persons, whose property and interests in property subject to U.S. jurisdiction continue to be blocked.

BILLING CODE 4810-AL-P

On August 18, 2025, OFAC determined that the property and interests in property subject to U.S. jurisdiction of the following person are unblocked and they have been removed from the SDN List.

1. VARGAS GIRALDO, Claudia Mercedes, Colombia; DOB 04 Dec 1964; POB Medellin, Antioquia, Colombia; Gender Female; Cedula No. 42885957 (Colombia) (individual) [SDNTK] (Linked To: CLAMASAN S.A.S.; Linked To: GUISANES S.A.S.; Linked To: C.M.V. CARNES S.A.S.; Linked To: AGROPECUARIA MAIS SOCIEDAD POR ACCIONES SIMPLIFICADA).

(Authority: 31 CFR chapter V.)

Bradley T. Smith,
Director, Office of Foreign Assets Control.

[FR Doc. 2025-15951 Filed 8-21-25; 8:45 am]

BILLING CODE 4810-AL-C